DEPARTMENT OF THE INTERIOR

National Park Service

Oil and Gas Management Plan, Final Environmental Impact Statement, Lake Meredith National Recreation Area and Alibates Flint Quarries National Monument, Texas

AGENCY: National Park Service, Interior.

ACTION: Availability of Final Environmental Impact Statement and Oil and Gas Management Plan for Lake Meredith National Recreation Area and Alibates Flint Quarries National Monument.

SUMMARY: Pursuant to section 102(2)(C) the National Environmental Policy Act of 1969, the National Park Service announces the availability of a final Environmental Impact Statement and Oil and Gas Management Plan (FEIS/O&GMP) for Lake Meredith National Recreation Area and Alibates Flint Quarries National Monument, Texas.

DATES: The DEIS/O&GMP was on public review from June 15 through August 14, 2001. Responses to public comment are addressed in the FEIS/O&GMP. A 30-day no-action period will follow the Environmental Protection Agency's Notice of Availability of the FEIS/O&GMP.

ADDRESSES: Copies of the FEIS/O&GMP are available from the Superintendent, Lake Meredith National Recreation Area and Alibates Flint Quarries National Monument, P.O. Box 1460, Fritch, Texas 79036-1460. Public reading copies of the FEIS/O&GMP will be available for review at the following locations:

Office of the Superintendent, Lake Meredith National Recreation Area, Alibates Flint Quarries National Monument, 419 E. Broadway, Fritch, TX 79036, Telephone: 806-857-3151.

Planning and Environmental Quality, Intermountain Support Office—Denver, National Park Service, 12795 W. Alameda Parkway, Lakewood, CO 80228, Telephone: (303) 969-2851.

Office of Minerals/Oil and Gas Support, Intermountain Support Office—Santa Fe, National Park Service, 1100 Old Santa Fe Trail, Santa Fe, NM 87505, Telephone: 505-988-6095.

Office of Public Affairs, National Park Service, Department of the Interior, 18th and C Streets NW, Washington, DC 20240, Telephone: (202) 208-6843.

SUPPLEMENTARY INFORMATION: When the two units of the National Park System were created, surface ownership within the two areas was acquired by the U.S. Government. Private entities or the State of Texas retained the subsurface mineral interests on these lands. Thus, the federal government does not own any of the subsurface oil and gas rights in the units. The National Park Service is required by its laws, policies and regulations to protect these units from actions that may impair park resources and values. Oil and gas operations within all park units are subject to regulations promulgated at 36 CFR Part 9B under the general authority of the Park Service Organic Act.

The FEIS/O&GMP analyzes three alternatives that could be implemented over the next 15-20 years for managing existing and anticipated oil and gas operations associated with the exercise of nonfederal oil and gas interests underlying the parks, and existing transpark oil and gas pipelines and activities in their associated rights-of-way. This planning effort will assist the park staff protect park resources, visitor use and experience, and human health and safety, and prevent impairment to park resources and values, while still recognizing property rights associated with outstanding nonfederal oil and gas interests.

Alternative A, No Action/Current Management, is required by the National Environmental Policy Act and describes the continued management of oil and gas operations in the parks under current legal and policy requirements. Alternative B emphasizes the development of a programmatic oil and gas management plan that would guide nonfederal oil and gas operations in the parks. Special Management Areas (SMAs) would be formally designated in the parks where resources and values would be particularly susceptible to adverse impacts from oil and gas operations, and operating stipulations specific to each SMA would be applied. Alternative B is the preferred alternative. Alternative C emphasizes avoiding new surface disturbance and its associated impacts throughout the parks and is the environmentally preferred alternative. New drilling and production operations would be confined to the original footprint of 121 current production sites and could not be located in SMAs where the No Surface Use operating stipulation would apply.

Impacts are analyzed on the following topics: nonfederal oil and gas development, adjacent landowners and uses, air quality, geologic resources, paleontological resources, floodplains and water resources, vegetation, wetlands, fish and wildlife, threatened and endangered species, cultural resources, and visitor use and experience.

FOR FURTHER INFORMATION CONTACT: Superintendent, Lake Meredith National Recreation Area and Alibates Flint Quarries National Monument, at the above address and telephone number.

Dated: May 15, 2002.
R. Everhart,
Director, Intermountain Region, National Park Service.

[FR Doc. 02-19245 Filed 7-31-02; 8:45 am]

BILLING CODE 4310-70-M